FEDERAL MEDIATION AND CONCILIATION SERVICE

Proposed Agency Information Collection Request Activities; Comment Request

AGENCY: Federal Mediation and Conciliation Service.

ACTION: Notice of Form R-43 submitted for revision and extension.

SUMMARY: This notice announces that the Federal Mediation and Conciliation Service is requesting an extension and revision of its Form R-43 (OMB 3076-0002).

DATES: Comments must be submitted within 60 days of the date of publication of this notice in the Federal Register.

ADDRESSES: Submit written comments to the Office of Information and Regulatory Affairs of the Office of Management and Budget, Attn: Desk Officer for the Federal Mediation and Conciliation Service, Room 10235, Washington, DC 20503.

Comments may be submitted also by fax at (202) 606-3749 or electronic mail (e-mail) to arbitration@fmcs.gov. All comments and data in electronic form must be identified by the appropriate agency form number. No confidential business information (CBI) should be submitted through e-mail.

Information submitted as a comment concerning this document may be claimed confidential by marking any part or all of the information as “CBI”. Information so marked will not be disclosed but a copy of the comment that does contain CBI must be submitted for inclusion in the public record. FMCS may disclose information not marked confidential publicly without prior notice. All written comments will be available for inspection in Room 704 at the Washington, DC address above form 8:30 a.m. to 4:30 p.m. Monday through Friday, excluding legal holidays.

FOR FURTHER INFORMATION CONTACT: Ms. Vella M. Traynham, Director of Arbitration Services, FMCS, 2100 K Stret, NW., Washington, DC 20427. Telephone (202) 606-5111; Fax (202) 606-3749.

SUPPLEMENTARY INFORMATION: Copies of each of the agency forms are available from the Office of Arbitration Services by calling, faxing or writing to the individual's whose name appears in the heading FOR FURTHER INFORMATION CONTACT.

I. Information Collection Requests

FMCS is seeking comments on the following Information Collection Request (ICR).

Title: Request for Arbitration Services. Form R-43, OMB No. 3076-0002.

Type of Request: Revision and extension of expiration date of a currently approved collection with minor changes in the substance.

Affecting Entities: Employers and their representatives, employees, labor unions and their representatives who request arbitration services.

Frequency: This form is completed each time an employer or labor union requests a panel of arbitrators.

Abstract: Pursuant to 29 U.S.C. 171(b) and 29 CFR part 1404, FMCS offers panels of arbitrators for selection by labor and management to resolve grievances and disagreements arising under their collective bargaining agreements and to deal with fact findings and interest arbitration issues as well. The need for this form is to obtain information such as name, address, and type of assistance desired, so that FMCS can respond to requests efficiently and effectively for various arbitration services. The purpose of this information collection is to facilitate the processing of the parties' request for arbitration assistance. No third party notification or public disclosure burden is associated with this collection. This notice for comments refers to a revision of the current form to include the new proposed fees and to include more payment options for requesting arbitration services.

Burden Statement: The current total annual burden estimate is that FMCS will receive requests from approximately 18,000 respondents per year. In most instances, the form is completed many times by the same parties throughout a year and takes about ten minutes to complete.

II. Request for Comments

FMCS solicits comments to:

(i) Evaluate whether the proposed collection of information is necessary for the proper performance of the functions of the agency, including whether the information will have practical utility.

(ii) Enhance the accuracy of the agency's estimates of the burden of the proposed collection of information.

(iii) Enhance the quality, utility, and clarity of the information to be collected.

(iv) Minimize the burden of the collection of information on those who are to respond, including the use of appropriate automated electronic collection technologies or other forms of information technology, e.g., permitting electronic and fax submission of responses.

III. The Official Record

The official record is the paper electronic record maintained at the address at the beginning of this document. FMCS will transfer all electronically received comments into printed-paper form as they are received.

George W. Buckingham, Jr.,
Deputy Director.

[FR Doc. 02-13479 Filed 5-29-02; 8:45 am]

BILLING CODE 6372-01-M